DEPARTMENT OF AGRICULTURE

Natural Resources Conservation Service

Notice of Intent To Prepare an Environmental Impact Statement

AGENCY: Natural Resources Conservation Service.

ACTION: Notice of intent to prepare an Environmental Impact Statement for the Cane Creek Remedial Plan, Lauderdale County, Tennessee.

SUMMARY: Notice is hereby given that in accordance with the National Environmental Policy Act of 1969, the U.S. Department of Agriculture—Natural Resources Conservation Service will prepare an Environmental Impact Statement to assess potential environmental impacts associated with proposed structural measures to control the widening and degradation of the channel of Cane Creek. The project sponsor is the Cane Creek Watershed District. The actions proposed in the Cane Creek Remedial Plan address the continuing degradation and widening of the channel of Cane Creek and its tributaries resulting from modification of the main channel in 1970. The sponsor's objective is to stabilize the main channel bottom and limit head-cutting of two major tributaries. Six alternatives to address the concerns were addressed in the Plan. The sponsor's preferred alternative includes installation of five low head riprap chutes in the main channel and one structure each in two large tributaries to Cane Creek. Benefits of the sponsor's preferred plan are the protection of five main channel bridges and two county bridges; four previously installed repair structures will also be protected. Approximately 84,000 cubic yards of sediment will be prevented from annually entering the Hatchie River. Ten acres of riparian forest and 9.2 acres of recreational fishing area will be created. No federally listed threatened or endangered species are known from the watershed.

FOR FURTHER INFORMATION CONTACT: James W. Ford, State Conservationist, Natural Resources Conservation Service, 675 U.S. Courthouse, 801 Broadway, Nashville, Tennessee 37203, telephone (615) 277-2531.

(This activity is listed in the Catalog of Federal Domestic Assistance under NO. 10.904, Watershed Protection and Flood Prevention, and is subject to the provisions of Executive Order 12372, which requires intergovernmental consultation with State and local officials.)
Dated: October 21, 2002.
James W. Ford,
State Conservationist.

[FR Doc. 02-28068 Filed 11-4-02; 8:45 am]

BILLING CODE 3410-16-P